DEPARTMENT OF HOUSING AND URBAN DEVELOPMENT

[Docket No. FR-5765-N-04]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a meeting of the MHCC. The meeting is open to the public and the site is accessible to individuals with disabilities. The agenda provides an opportunity for citizens to comment on the business before the MHCC.

DATES: The meeting will be held on December 2nd thru 4th, 2014, from 9:00 a.m. to 5:00 p.m. Eastern Standard Time (EST) daily.

ADDRESSES: The meeting will be held at the Sheraton Pentagon City Hotel, 900 South Orme Street, Arlington, Virginia 22204.

FOR FURTHER INFORMATION CONTACT: Pamela Beck Danner, Administrator, Office of Manufactured Housing Programs, Department of Housing and Urban Development, 451 7th Street SW., Room 9166, Washington, DC 20410, telephone (202) 708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC are encouraged to register by or before November 25, 2014, by contacting Home Innovation Research Labs; Attention: Kevin Kauffman, 400 Prince Georges Blvd., Upper Marlboro, MD 20774, or email to mhcc@homeinnovation.com. Written comments are encouraged. The MHCC strives to accommodate citizen comments to the extent possible within the time constraints of the meeting agenda. Advance registration is strongly encouraged. The MHCC will also provide an opportunity for public comment on specific matters before the MHCC.

Tentative Agenda

Tuesday, December 2, 2014 From 9:00 a.m. to 5:00 p.m. EST

I. Call to Order—Chair

• FACA Announcements—Designated Federal Officer (DFO)

II. Opening Remarks—Chair & DFO

III. Review and Approve MHCC Minutes from June 26, 2014 teleconference

IV. Action Item 4: RV Park Model Memorandum dated Oct. 1, 2014—Background presented by HUD staff followed by MHCC discussion

V. Public comment period #1—Public

VI. Log 87—Change in minimum horizontal dimension § 3280.112

VII. MHCC Recommendations

VIII. Discuss and assign reference standards to Subcommittees

• Technical Systems Subcommittee Meeting

○ Review and Approve Technical Systems Subcommittee Minutes from September 16, 2014 teleconference

○ Action Item 2: GAO Report on Ventilation Systems and Air Quality

○ Review Current Log Item: Log 88—Circulating Air Systems—§ 3280.715

• General Subcommittee Meeting

• Structure and Design Subcommittee Meeting

○ Action Item 3: Southern Yellow Design Values

• Regulatory Enforcement Subcommittee Meeting

Wednesday, December 3, 2014, 9:00 a.m. to 5:00 p.m. EST

I. Reconvene Meeting—Chair & DFO

• FACA Announcements—DFO

II. Roll Call—Administering Organization (AO)

III. Subcommittee Reports to MHCC

• Technical Systems Subcommittee

○ Log 85—Arc Fault Breakers—§ 3280.801

○ Log 86—Tamper Resistant Receptacles—§ 3280.806(a)

• General Subcommittee

• Structure and Design Subcommittee

• Regulatory Enforcement Subcommittee

IV. Public comment period #2—Public

V. Report on Multifamily Housing Issue—Memorandum dated October 3, 2014

VI. Subcommittees meet to discuss reference standards

• Technical Systems Subcommittee Meeting

• General Subcommittee Meeting

• Structure and Design Subcommittee Meeting

• Regulatory Enforcement Subcommittee Meeting

Thursday, December 4, 2014, 9:00 a.m. to 5:00 p.m. EST

I. Reconvene Meeting—Chair & DFO

• FACA Announcements—DFO

II. Roll Call—Administering Organization (AO)

III. Report from Department of Energy (DOE) on progress of manufactured housing energy standards

IV. Subcommittee Reports to MHCC

• Technical Systems Subcommittee

• General Subcommittee

• Structure and Design Subcommittee

• Regulatory Enforcement Subcommittee

V. Public comment period #3—Public

VI. MHCC reconvenes for final comments and discussion

• Open discussion

• Future Meetings/Conference Calls—MHCC

• Closing Announcements—Chair

VII. Adjourn: 5:00 p.m. EST

Dated: November 6, 2014.
Pamela Beck Danner,
Administrator, Office of Manufactured Housing Programs.

[FR Doc. 2014-26766 Filed 11-10-14; 8:45 am]

BILLING CODE 4210-67-P